ENVIRONMENTAL PROTECTION AGENCY

[ER-FRL-6616-1]

Environmental Impact Statements; Notice of Availability

Responsible Agency:Office of Federal Activities, General Information (202) 564-7167 www.epa.gov/oeca/ofa.

Weekly receipt of Environmental Impact Statements

Filed February 26, 2001 Through March 02, 2001

Pursuant to 40 CFR 1506.9.

EIS No. 010060, Draft EIS, NPS, OK, Washita Battlefield National Historic Site, General Management Plan, Implementation, Roger Mill County, OK, Comment Period Ends: May 18, 2001, Contact: Sarah Craighead (580) 497-2742.

EIS No. 010061, Final EIS, FHW, NH, Manchester Airport Access Road Highway Improvement Project, Bedford-Manchester-Londonderry-Litchfield-Merrimack, Funding and NPDES Permit and COE Section 404 Permit, Hillsborough and Rockingham Counties, NH , Wait Period Ends: April 09, 2001, Contact: William F. O'Donnell (603) 228-3057.

EIS No. 010062, Final EIS, COE, CA, Adoption—CA-125 South Route Location, Adoption and Construction, between CA-905 on Otay Mesa to CA-54 in Spring Valley, Funding and COE Section 404 Permit, San Diego County, CA, Wait Period Ends: April 09, 2001, Contact: Terry Dean (858) 674-5386. Corps of Engineers (COE) has adopted the Department of Transportation's #000043 filed 02-10-2000. COE was not a Cooperating Agency for the above final EIS. Recirculation of the document is necessary under Section 1506.3(b) of the Council on Environmental Quality Regulations.

EIS No. 010063, Draft EIS, AFS, OR, Silvies Canyon Watershed Restoration Project, To Improve the Ecosystem Health of the Watershed, Grant and Harney Counties, OR , Comment Period Ends: April 23, 2001, Contact: Lori Bailey (541) 573-4300.

EIS No. 010064, Final EIS, BLM, NV, Marigold Mine Expansion Project, Implementation, COE Section 404 Permit, Special-Use-Permit, Humboldt County, NV, Wait Period Ends: April 09, 2001, Contact: Jeff Johnson (775) 623-1500.

EIS No. 010065, Final Supplement, AFS, WA, Huckleberry Land Exchange Consolidate Ownership and Enhance Future Conservation and Management, Updated Information, Proposal to Exchange Land and Mineral Estates, Federal Land and Non-Federal Land, Mt. Baker-Snoqualmie National Forest, Skagit, Snohomish, King, Pierce, Kittitas, and Lewis Counties, WA, Wait Period Ends: April 09, 2001, Contact: Everett White (425) 744-3442.

EIS No. 010066, Final EIS, NPS, MD, Glen Echo Park Management Plan, Implementation, Town of Glen Echo, Potomac River Valley, part of the George Washington Memorial Parkway, Montgomery County, MD , Wait Period Ends: April 09, 2001, Contact: Audrey Calhoun (703) 289-2500.

EIS No. 010067, Draft EIS, FHW, TX, IH-10 West from Taylor Street to FM-1489, Construction and Reconstruction, Central Business District (CBD), Funding, Right-of-Way Permit and COE Section 404 Permit, Harris, Fort Bend and Waller Counties, TX, Comment Period Ends: April 23, 2001, Contact: James G. Darden (713) 802-5241.

EIS No. 010068, Final Supplement, NOA, Atlantic Sea Scallop Fishery Management Plan (FMP), Updated Information, Framework Adjustment 14 to adjust the annual Amendment 7 day-at-sea allocation for 2001 and 2002 and to re-open portions of the Hudson Canyon and Virginia/North Carolina Areas for Scallop Fishing, Wait Period Ends: March 23, 2001, Contact: George Darcy (978) 281-9331. Under Section 1506.10(d) of the Council on Environmental Quality Regulations for Implementating the Procedural Provisions of the National Environmental Policy Act the US Environmental Protection Agency has Granted a 15-Day Wavier for the above EIS.

Amended Notice

EIS No. 010028, Draft EIS, FHW, IL, Illinois Route 3 (FAP-14) Relocation, Improved Transportation from Sauget to Venice, Funding, NPDES Permit and COE Section 404 Permit, Madison and St. Clair Counties, IL, Comment Period Ends: April 02, 2001, Contact: Ronald C. Marshall (217) 492-4640. Revision of FR notice published on 02/02/2001: CEQ Comment Date has been extended from 03/19/2001 to 04/02/2001.

Dated: March 6, 2001.
Joseph C. Montgomery,
Director, NEPA Compliance Division, Office of Federal Activities.

[FR Doc. 01-5912 Filed 3-8-01; 8:45 am]

BILLING CODE 6560-50-P